DEPARTMENT OF HEALTH AND HUMAN SERVICES

Meeting of the Advisory Committee on Blood and Tissue Safety and Availability

AGENCY: Department of Health and Human Services, Office of the Secretary, Office of the Assistant Secretary for Health.

ACTION: Notice.

SUMMARY: As stipulated by the Federal Advisory Committee Act, the U.S. Department of Health and Human Services is hereby giving notice that the Advisory Committee on Blood and Tissue Safety and Availability (ACBTSA) will hold a meeting.

The meeting will be open to the public.

DATES: The meeting will take place Thursday, December 6, and Friday, December 7, 2012, from 8:00 a.m. to 4:00 p.m. on both days.

ADDRESSES: National Institutes of Health Conference Room, 5635 Fisher Lane, Terrace Level, Rockville, MD 20852.

FOR FURTHER INFORMATION CONTACT: Mr. James Berger, Senior Advisor for Blood Policy and Executive Secretary ACBTSA, Division of Blood and Tissue Safety and Availability, Office of HIV/AIDS and Infectious Disease Policy, Office of the Assistant Secretary for Health, U.S. Department of Health and Human Services, 1101 Wootton Parkway, Suite 250, Rockville, MD 20852, (240) 453-8809, Fax (240) 453-8456, email ACBSA@hhs.gov.

SUPPLEMENTARY INFORMATION: The ACBTSA shall provide advice to the Secretary through the Assistant Secretary for Health. The Committee shall advise on a range of policy issues to include: innovations in blood and tissue products and their potential impact on emergency preparedness.

The public will have the opportunity to present their views to the Committee during a public comment session scheduled for December 7, 2012. Comments will be limited to five minutes per speaker and must be pertinent to the discussion. Pre-registration is required for participation in the public comment session. Any member of the public who would like to participate in this session is encouraged to contact the Executive Secretary to register for time (limited to 5 minutes); individuals must register prior to close of business on December 3, 2012. If it is not possible to provide 30 copies of the material to be distributed, then individuals are requested to provide a minimum of one (1) copy of the document(s) to be distributed prior to the close of business on December 5, 2012. It is also requested that any member of the public who wishes to provide comments to the Committee utilizing electronic data projection submit the necessary material to the Executive Secretary prior to the close of business on December 3, 2012.

Dated: November 2, 2012.
James J. Berger,
Senior Advisor for Blood Policy, Executive Secretary ACBTSA.

[FR Doc. 2012-27307 Filed 11-7-12; 8:45 am]

BILLING CODE 4150-41-P